DEPARTMENT OF TRANSPORTATION

Federal Transit Administration

Limitation on Claims Against Proposed Public Transportation Project—West Seattle Link Extension Project, Seattle, King County, Washington

AGENCY: Federal Transit Administration (FTA), Department of Transportation (DOT).

ACTION: Notice.

SUMMARY: This notice announces final environmental actions taken by the Federal Transit Administration (FTA) regarding the West Seattle Link Extension Project, Seattle, King County, Washington. The purpose of this notice is to publicly announce FTA's environmental decisions on the subject project, and to activate the limitation on any claims that may challenge these final environmental actions.

DATES: A claim seeking judicial review of FTA actions announced herein for the listed public transportation project will be barred unless the claim is filed on or before October 27, 2025.

FOR FURTHER INFORMATION CONTACT: Kathryn Loster, Assistant Chief Counsel, Office of Chief Counsel, (202) 360-2322, or Saadat Khan, Environmental Protection Specialist, Office of Environmental Policy and Programs, (202) 366-9647. FTA is located at 1200 New Jersey Avenue SE, Washington, DC 20590. Office hours are from 9:00 a.m. to 5:00 p.m., Monday through Friday, except Federal holidays.

SUPPLEMENTARY INFORMATION: Notice is hereby given that FTA has taken final agency actions subject to 23 U.S.C. 139(l) by issuing certain approvals for the public transportation project listed below. The actions on the project, as well as the laws under which such actions were taken, are described in the documentation issued in connection with the project to comply with the National Environmental Policy Act (NEPA) and in other documents in the FTA environmental project files for the project. Interested parties may contact either the project sponsor or the relevant FTA Regional Office for more information. Contact information for FTA's Regional Offices may be found at https://www.transit.dot.gov/about/regional-offices/regional-offices.

This notice applies to all FTA decisions on the listed project as of the issuance date of this notice and all laws under which such actions were taken, including, but not limited to, NEPA (42 U.S.C. 4321-4375), Section 4(f) requirements (49 U.S.C. 303), Section 106 of the National Historic Preservation Act (54 U.S.C. 306108), Endangered Species Act (16 U.S.C. 1531), Clean Water Act (33 U.S.C. 1251), the Uniform Relocation and Real Property Acquisition Policies Act (42 U.S.C. 4601), and the Clean Air Act (42 U.S.C. 7401-7671q). This notice does not, however, alter or extend the limitation period for challenges of project decisions subject to previous notices published in the Federal Register. The project modifications and actions that are the subject of this notice follow:

Project name and location: West Seattle Link Extension Project (Project), Seattle, King County, Washington.

Project Sponsor: Central Puget Sound Regional Transit Authority (Sound Transit), Seattle, King County Washington.

Project description: The Project would expand Link light rail transit service from the South Downtown (SODO) neighborhood to West Seattle within a 4.1-mile corridor and provide fast and frequent service in the city of Seattle in King County, Washington. The light rail would operate on a fixed guideway in exclusive right-of-way, outside of traffic, to maintain reliable operations. The Project would include four (4) stations at SODO, Delridge, Avalon, and Alaska Junction. The stations would be elevated, at-grade, in a retained cut, or in a tunnel, depending on the site conditions, guideway profile, and the engineering requirements of the guideway. The stations would also include ticket vending machines, closed-circuit television cameras, a public address system, emergency phones, variable-message signage that meets the applicable Americans with Disabilities Act requirements, public access, and compliance with fire code and safety requirements.

Final agency action: Section 106 Programmatic Agreement, dated February 25, 2025; Section 4(f) de minimis impact determination, dated April 25, 2024. West Seattle Link Extension Record of Decision (ROD), dated April 29, 2025.

Supporting documentation: West Seattle Link Extension Final Environmental Impact Statement (FEIS), dated September 20, 2024; West Seattle, and Ballard Link Extensions Project Draft Environmental Impact (DEIS), dated January 28, 2022. The ROD, FEIS, DEIS and associated documents can be viewed and downloaded from: https://www.soundtransit.org/system-expansion/west-seattle-link-extension.

Authority: 23 U.S.C. 139(l)(1).

Megan Blum,
Deputy Associate Administrator for Planning and Environment.

[FR Doc. 2025-09811 Filed 5-29-25; 8:45 am]

BILLING CODE 4910-57-P